ENVIRONMENTAL PROTECTION AGENCY

[FRL-7585-5]

Proposed Third Administrative Cashout Settlement Under Section 122(g) of the Comprehensive Environmental Response, Compensation, and Liability Act; in Re: Beede Waste Oil Superfund Site, Plaistow, NH

AGENCY: Environmental Protection Agency (EPA).

ACTION: Notice of proposed third administrative settlement and request for public comment.

SUMMARY: In accordance with section 122(i) of the Comprehensive Environmental Response, Compensation, and Liability Act, as amended, 42 U.S.C. 9622(i), notice is hereby given of a proposed third administrative settlement for recovery of past and projected future response costs concerning the Beede Waste Oil Superfund Site in Plaistow, New Hampshire with the settling parties listed in the Supplementary Information portion of this notice. The U.S. Environmental Protection Agency—Region I (EPA) is proposing to enter into a third de minimis settlement agreement to address claims under the Comprehensive Environmental Response, Compensation, and Liability Act of 1980, as amended (“CERCLA”), 42 U.S.C. 9601 et seq. The Beede Third De Minimis Settlement Administrative Order on Consent (“AOC”) is modeled on the same or substantially similar terms and conditions as the Beede Second De Minimis Settlement of 2002, including reliance on the same cost basis. This third settlement addresses the 17 parties who raised, and submitted the necessary documentation for, an Ability to Pay (“ATP”) claim in response to the second settlement, and it includes reduced cashout amounts for 10 of the 17 parties who demonstrated an inability to pay. For each party who submitted an ATP claim, EPA sought to determine whether there was a valid basis for finding the PRP unable to pay the full cashout amount without suffering severe undue financial hardship. Notice is being published to inform the public of the proposed third settlement and of the opportunity to comment. This third settlement, embodied in a CERCLA section 122(g) Administrative Order on Consent (“AOC”), is designed to resolve each settling party's liability at the Site for past work, past response costs and specified future work and response costs through covenants under sections 106 and 107 of CERCLA, 42 U.S.C. 9606 and 9607, as well as to resolve each such settling party's liability at the Site for past response costs and estimated future response costs by the State of New Hampshire, through its Department of Environmental Services. The proposed AOC requires the settling parties listed in the Supplementary Information section below to pay an aggregate total of approximately $45,037.44. For thirty (30) days following the date of publication of this notice, the EPA will receive written comments relating to this third settlement. The EPA will consider all comments received and may modify or withdraw its consent to the settlement if comments received disclose facts or considerations which indicate that the settlement is inappropriate, improper, or inadequate. The EPA's response to any comments received will be available for public inspection at the EPA Records Center, 1 Congress Street, Boston, MA 02114-2023 (Telephone Number: 617-918-1440).

DATES: Comments must be submitted on or before December 12, 2003.

ADDRESSES: The proposed third settlement is available for public inspection at the EPA Records Center, 1 Congress Street, Boston, MA 02114-2023. Please call 617-918-1440 to schedule an appointment. A copy of the proposed third settlement may be obtained from Kristin Balzano, U.S. Environmental Protection Agency, Region I, 1 Congress Street, Suite 1100 (SES), Boston, MA 02114-2023 (Telephone Number: 617-918-1772). Comments should reference the Beede Waste Oil Superfund Site in Plaistow, New Hampshire and EPA Docket No. CERCLA-01-2003-0038 and should be addressed to Kristin Balzano, U.S. Environmental Protection Agency, Region I, 1 Congress Street, Suite 1100 (SES), Boston, MA 02114-2023.

FOR FURTHER INFORMATION CONTACT: Cindy Lewis, U.S. Environmental Protection Agency, Region I, 1 Congress Street, Suite 1100 (SES), Boston, MA 02114-2023 (Telephone Number: 617-918-1889).

SUPPLEMENTARY INFORMATION: This section contains a list of the 12 settling parties. Each party name is accompanied by its 4-digit PRP identification number, a party-specific identifier uniquely associated with the PRP to which it refers. The following is a list of the settling parties to the proposed third settlement: A.J. Gagnon & Sons, Inc. (PRP #2195), Auto Radiator Service, Inc. (PRP #0401), Cargo Transport, Inc. (PRP #1787), Christie Transfer, Inc. (PRP #1924), City of Quincy (GRP #404), Internal Combustion, Ltd. (PRP #2691), James R. Nicholson, Individually (PRP #3716), LBJ Inc. (PRP #3043), New England Transmission Co., Inc. (PRP #3679), New Tern Harbor Marina, Inc. (PRP #3689), Roberts Motor Sales, Inc. (PRP #4344) and Wakefield Auto Service, Inc. (PRP #5235).

In accordance with the Comprehensive Environmental Response, Compensation, and Liability Act of 1980, as amended, 42 U.S.C. 9601 et seq., notice is hereby given of a proposed third de minimis settlement agreement under section 122(g) of CERCLA concerning the Beede Waste Oil Superfund Site in Plaistow, NH. The third settlement was approved by EPA Region I, subject to review by the public pursuant to this notice.

The proposed third settlement has been approved by the United States Department of Justice and, for the State portion of the settlement, by the State of New Hampshire. EPA will receive written comments relating to this settlement for thirty (30) days from the date of publication of this Notice.

Dated: November 3, 2003.
Richard Cavagnero,
Acting Director, Office of Site Remediation and Restoration, EPA—Region I.

[FR Doc. 03-28309 Filed 11-10-03; 8:45 am]

BILLING CODE 6560-50-P